OFFICE OF PERSONNEL MANAGEMENT

Submission for OMB Review; Comment Request for Reclearance of an Expiring Information Collection: OMB Control No. 3206-0106; Form INV 10, “Mail Reinterview Form”

AGENCY: Office of Personnel Management.

ACTION: Notice.

SUMMARY: In accordance with the Paperwork Reduction Act of 1995 (Pub. L. 104-13), this notice announces that the U.S. Office of Personnel Management (OPM) has submitted to the Office of Management and Budget (OMB) a request for re-clearance of an expiring information collection, Mail Reinterview Form (INV 10), OMB Control No. 3206-0106. OPM sends the INV 10 questionnaire to a random sampling of record and personal sources contacted during background investigations when investigators have performed fieldwork. The INV 10 is used as a quality control instrument designed to ensure the accuracy and integrity of the investigative product, as it inquires of the sources about the investigative procedure employed by the investigator, the investigator's professionalism, and the information discussed and reported.

It is estimated that 114,000 INV 10 forms are sent to individual sources annually. Of those, it is estimated that 50,000 individuals respond. We anticipate sending and receiving a similar number of INV 10 forms in the years ahead. Each form takes approximately six minutes to complete. The estimated annual burden is 5,000 hours.

We received no comments as a result of the 60-day Federal Register Notice, published in the Federal Register on June 19, 2008. Therefore, we determined that this collection of information continues to be necessary for the proper performance of functions of the U.S. Office of Personnel Management and its Federal Investigative Services Division, which administers its background investigations. Further, we maintain that our estimate of the public burden of this collection is accurate, based on valid assumptions and methodology. The existing reinterview questionnaire addresses all of the questions relevant to ensure the accuracy and integrity of the investigative product at this time.

For copies of this proposal, contact Mary-Kay Brewer on (703) 305-1002, Fax (703) 603-0576 or e-mail to MaryKay.Brewer@opm.gov. Please be sure to include a mailing address with your request.

DATES: Comments on this proposal should be received within 30 calendar days from the date of this publication.

ADDRESSES: Send or deliver comments to:

Kathy Dillaman, Associate Director, Federal Investigative Services Division, U.S. Office of Personnel Management, 1900 E. Street, NW., Room 5416, Washington, DC 20415, and

John W. Barkhamer, OPM Desk Officer, Office of Information and Regulatory Affairs, Office of Management and Budget, New Executive Office Building, 725 17th Street NW., Room 10235, Washington, DC 20503.

For Information Regarding Administrative Coordination Contact: Mary-Kay Brewer, Program Analyst, Operational Policy Group, Federal Investigative Services Division, U.S. Office of Personnel Management, (703) 305-1002.

U.S. Office of Personnel Management.
Howard Weizmann,
Deputy Director.

[FR Doc. E8-30296 Filed 12-19-08; 8:45 am]

BILLING CODE 6325-38-P